FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011711.

Title: NINA/Tropical Shipping Slot Charter Agreement.

Parties: NINA ApS; Tropical Shipping and Construction Co., Ltd.

Synopsis: The Agreement establishes an arrangement whereby NINA may slot charter space on Tropical's vessels in the Southbound trade between Palm Beach, Florida and the Dominican Republic, Haiti, and Turks and Caicos Islands.

Agreement No.: 011712.

Title: CMA CGM/CSG Slot Exchange, Sailing and Cooperative Working Agreement.

Parties: CMA CGM; China Shipping Container Lines Co., Ltd.

Synopsis: The proposed Agreement would permit the parties to charter space to one another and to coordinate their vessel operations in the trade between United States West Coast ports and ports in the Far East. They would also be permitted to engage in a limited range of cooperative activities related to their chartering activities.

Agreement No.: 011713.

Title: Evergreen/Lloyd Triestino Slot Charter Agreement.

Parties: Evergreen Marine Corp. (Taiwan) Ltd. (“Evergreen”); Lloyd Triestino Di Navigazione S.P.A. (“Lloyd”).

Synopsis: The proposed Agreement would permit Evergreen to charter space to Lloyd in the trade between United States East Coast ports, and inland U.S. points via such ports, and ports and inland points in the Far East. The parties request expedited review.

Agreement No.: 011714.

Title: Evergreen/Lloyd Triestino Vessel Sharing Agreement.

Parties: Evergreen Marine Corp. (Taiwan) Ltd.; Lloyd Triestino Di Navigazione S.P.A.

Synopsis: The proposed Agreement would permit the parties to charter space to one another and to coordinate their vessel operations in the trade between United States West Coast ports and inland and coastal points served via such ports and ports and inland points in the Far East. They may also discuss and agree upon rate, terms, and conditions of service relative to the carriage of cargo in the trade, including cargo carried under the parties' individual service contracts.

Agreement No.: 201004-001.

Title: Indiana's International Port/Burns Harbor General Cargo Terminal Operating Agreement.

Parties: Indiana Port Commission; Indiana Stevedoring and Distribution Corporation.

Synopsis: The proposed amendment changes the original demise and provides for changed payments. The agreement continues to run through December 31, 2008.

Dated: June 9, 2000.
By Order of the Federal Maritime Commission.
Bryant L. VanBrakle,
Secretary.

[FR Doc. 00-15057 Filed 6-13-00; 8:45 am]

BILLING CODE 6730-01-P